OFFICE OF THE UNITED STATES TRADE REPRESENTATIVE

Notice of Meeting of the Industry Trade Advisory Committee on Small and Minority Business (ITAC-11)

AGENCY: Office of the United States Trade Representative.

ACTION: Correcting Date of Notice of a Partially Opened ITAC-11 Meeting (Published in FR Volume 74, Page 8819).

SUMMARY: The correct date for The Industry Trade Advisory Committee on Small and Minority Business (ITAC-11) published in Federal Register Volume 74 page 8819 is Monday, March 9, 2009. The meeting will be closed to the public from 9 a.m. to 12:30 p.m. and opened to the public from 1 p.m. to 3:30 p.m.

DATES: The meeting is scheduled for March 9, 2009, unless otherwise notified.

ADDRESSES: The meeting will be held at the U.S. Department of Commerce, Room B41-A/B, located at 14th Street and Constitution Avenue, NW., Washington, DC.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• Status of U.S. Commercial Service Activities for FY09.

• The TPCC Agencies and Their Role in Export Promotion and Trade Policy.

Christina R. Sevilla.
Acting Assistant U.S. Trade Representative for Intergovernmental Affairs and Public Liaison.

[FR Doc. E9-4611 Filed 3-3-09; 8:45 am]

BILLING CODE 3190-W9-P